FEDERAL COMMUNICATIONS COMMISSION

47 CFR Part 73

[DA 04-1030, MM Docket No. 02-29, RM-10372]

Digital Television Broadcast Service; Bowling Green, OH

AGENCY: Federal Communications Commission.

ACTION: Final rule.

SUMMARY: The Commission, by this document, dismisses a petition for rule making filed by Bowling Green State University, requesting the substitution of DTV channel *20 for station WBGU-TV's assigned DTV channel *36 at Bowling Green, Ohio. See 67 FR 8926, February 27, 2002. Bowling Green State University filed a request for withdrawal of its petition for rule making. With this action, this proceeding is terminated.

DATES: Effective May 10, 2004.

FOR FURTHER INFORMATION CONTACT: Pam Blumenthal, Media Bureau, (202) 418-1600.

SUPPLEMENTARY INFORMATION: This is a synopsis of the Commission's Report and Order, MM Docket No. 02-29, adopted April 15, 2004, and released April 23, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Federal Communications Commission.
Barbara A. Kreisman,
Chief, Video Division, Media Bureau.

[FR Doc. 04-10573 Filed 5-7-04; 8:45 am]

BILLING CODE 6712-01-P